DEPARTMENT OF HEALTH AND HUMAN SERVICES

Administration for Children and Families

Submission for OMB Review; Comment Request

Title: Data Collection Plan for a Follow-up Survey with Child Welfare Information Gateway Customers.

OMB No.: 0970-NEW.

Description: The proposed information collection activity includes a follow-up survey designed to assess how professional customers are using information received from Child Welfare Information Gateway. Child Welfare Information Gateway is a service of the Children's Bureau, a component within the Administration for Children and Families, and is dedicated to the mission of connecting professionals and concerned citizens to information on programs, research, legislation, and statistics regarding the safety, permanency, and well-being of children and families. The follow-up survey will gather data about how professionals use Child Welfare Information Gateway's information services in their work. Survey findings will be applied to make continuous improvements to Child Welfare Information Gateway's Web site and other information services.

Respondents: Child Welfare Information Gateway professional users.

Annual Burden Estimates
Instrument | Number of respondents | Number of responses per respondent | Average burden hours per response | Total burden hours
Follow-up Survey | Private Sector | 100 | 0.167 | 16.7
Follow-up Survey | State, Local, or Tribal Governments | 100 | 0.167 | 16.7

Estimated Total Annual Burden Hours: 33.4 hours.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2012-25648 Filed 10-17-12; 8:45 am]

BILLING CODE 4184-01-P